DEPARTMENT OF ENERGY

Environmental Management Site-Specific Advisory Board, Idaho National Laboratory

AGENCY: Department of Energy.

ACTION: Notice of open meeting.

SUMMARY: This notice announces a meeting of the Environmental Management Site-Specific Advisory Board (EM SSAB), Idaho National Laboratory. The Federal Advisory Committee Act (Pub. L. 92-463, as amended) requires that public notice of this meeting be announced in the Federal Register.

DATES: Thursday, May 29, 2008—8 a.m.-5 p.m.

Opportunities for public participation will be held Thursday, May 29, from 11:45 a.m. to 12 p.m. and from 3 p.m. to 3:15 p.m.

These times are subject to change; please contact the Federal Coordinator (below) for confirmation of times prior to the meeting.

ADDRESSES: AmeriTel Inn, 645 Lindsay Boulevard, Idaho Falls, Idaho 83402.

FOR FURTHER INFORMATION CONTACT: Robert L. Pence, Federal Coordinator, Department of Energy, Idaho Operations Office, 1955 Fremont Avenue, MS-1203, Idaho Falls, ID 83415. Phone (208) 526-6518; Fax (208) 526-8789 or e-mail: pencerl@id.doe.gov or visit the Board's Internet home page at: http://www.inlemcab.org.

SUPPLEMENTARY INFORMATION: Purpose of the Board: The purpose of the Board is to make recommendations to DOE in the areas of environmental restoration, waste management, and related activities.

Tentative Topics (agenda topics may change up to the day of the meeting; please contact Robert L. Pence for the most current agenda):

• Tour Cleanup Areas/Projects on the Idaho National Laboratory (INL);

• Progress to Cleanup;

• Accelerated Decontaminating and Decommissioning Plan;

• Calcine—Nuclear Regulatory Commission Licensing Update;

• Integrated Waste Treatment Unit Project;

• Savannah River/INL Spent Fuel Transfer.

Public Participation: The meeting is open to the public. Written statements may be filed with the Board either before or after the meeting. Individuals who wish to make oral presentations pertaining to agenda items should contact Robert L. Pence at the address or telephone number listed above. The request must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Robert L. Pence, Federal Coordinator, at the address and phone number listed above. Minutes will also be available at the following Web site: http://www.inlemcab.org/meetings.html.

Issued at Washington, DC on May 12, 2008.
Rachel Samuel,
Deputy Committee Management Officer.

[FR Doc. E8-11006 Filed 5-15-08; 8:45 am]

BILLING CODE 6450-01-P